DEPARTMENT OF DEFENSE

GENERAL SERVICES ADMINISTRATION

NATIONAL AERONAUTICS AND SPACE ADMINISTRATION

[OMB Control No. 9000-0082]

Federal Acquisition Regulation; Information Collection; Economic Purchase Quantity—Supplies

AGENCIES: Department of Defense (DOD), General Services Administration (GSA), and National Aeronautics and Space Administration (NASA).

ACTION: Notice of reinstatement request for an information collection requirement regarding an existing OMB clearance.

SUMMARY: Under the provisions of the Paperwork Reduction Act of 1995 (44 U.S.C. Chapter 35), the Federal Acquisition Regulation, Regulatory Secretariat (VPR) will be submitting to the Office of Management and Budget (OMB) a request to reinstate a previously approved information collection requirement concerning Economic Purchase Quantity—Supplies.

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before August 17, 2009.

ADDRESSES: Submit comments regarding this burden estimate or any other aspect of this collection of information, including suggestions for reducing this burden, to: General Services Administration, Regulatory Secretariat (VPR), 1800 F Street, NW., Room 4041, Washington, DC 20405. Please cite OMB Control No. 9000-0082, Economic Purchase Quantity—Supplies, in all correspondence.

FOR FURTHER INFORMATION CONTACT: Ms. Lori Sakalos, Procurement Analyst, Contract Policy Division, GSA, (202) 208-0498.

SUPPLEMENTARY INFORMATION:

A. Purpose

The provision at 52.207-4, Economic Purchase Quantity—Supplies, invites offerors to state an opinion on whether the quantity of supplies on which bids, proposals, or quotes are requested in solicitations is economically advantageous to the Government. Each offeror who believes that acquisitions in different quantities would be more advantageous is invited to (1) recommend an economic purchase quantity, showing a recommended unit and total price, and (2) identify the different quantity points where significant price breaks occur. This information is required by Public Law 98-577 and Public Law 98-525.

B. Annual Reporting Burden

Respondents: 1,524.

Responses per Respondent: 25.

Annual Responses: 38,100.

Hours per Response: .83.

Total Burden Hours: 31,623.

Obtaining Copies of Proposals: Requesters may obtain a copy of the information collection documents from the General Services Administration, Regulatory Secretariat (VPR), 1800 F Street, NW., Room 4041, Washington, DC, 20405, telephone (202) 501-4755. Please cite OMB Control No. 9000-0082, Economic Purchase Quantity—Supplies, in all correspondence.

Dated: June 9, 2009.
Al Matera,
Director, Office of Acquisition Policy.

[FR Doc. E9-14105 Filed 6-15-09; 8:45 am]

BILLING CODE 6820-EP-P